DEPARTMENT OF THE INTERIOR

Bureau of Land Management

[LLNVW00000.L5110000. GN0000. LVEMF1805980.18X .MO#4500142520]

Notice of Availability of the Final Environmental Impact Statement for the Proposed POA11 Project—Modification to the Plan of Operations for the Coeur Rochester and Packard Mines, Pershing County, Nevada

AGENCY: Bureau of Land Management, Interior.

ACTION: Notice of availability.

SUMMARY: In compliance with the National Environmental Policy Act of 1969, as amended (NEPA), and the Federal Land Policy and Management Act of 1976, as amended, the Bureau of Land Management (BLM) Humboldt River Field Office, Winnemucca, Nevada has prepared a Final Environmental Impact Statement (EIS) and by this notice is announcing its availability.

DATES: The BLM will not issue a final decision on the proposal for a minimum of 30 days after the date that the Environmental Protection Agency publishes its Notice of Availability in the Federal Register.

ADDRESSES: Copies of Coeur Rochester and Packard Mines POA11 Project Plan of Operations and EIS are available for public inspection at the Winnemucca District BLM Office, 5100 East Winnemucca Boulevard, Winnemucca, Nevada. Interested persons may also review the Final EIS on the internet at https://go.usa.gov/xPdjC.

FOR FURTHER INFORMATION CONTACT: Kathleen Rehberg, Project Lead, telephone: (775) 623-1500; address: 5100 East Winnemucca Boulevard, Winnemucca, NV 89445. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, Coeur Rochester Inc., has requested to modify its approved Plan of Operations at the Rochester and Packard mines by expanding its operations. The mine is located approximately 26 miles northeast of Lovelock, Nevada. The mine is currently authorized disturbance up to 2203.1 acres (approximately 164.6 acres of private land and 2038.5 acres of public land), which was permitted under a series of EISs and Environmental Assessments from the initial Plan of Operations in 1986 through the latest EIS in 2015. Coeur Rochester, Inc. is proposing to expand and optimize its current operations. It proposes to expand mining in both of its current pits (the Rochester and Packard pits) and move, relocate, or expand heap leach pads, waste rock dumps, haul roads, access road, water pipeline, and processing facilities. The proposal would increase disturbance by 2,815.4 acres (435.2 acres on private land and 2380.2 acres on public land).

Mining of the Rochester Pit would extend below the groundwater resulting in a permanent pit lake after closure. Additional, potentially acid-generating material would be excavated and would be processed as ore or stored according to its Waste Rock Storage Plan. The plan would also necessitate an upgrade in power distribution lines and a substation. With the proposed expansion, mine life would be extended to 2033, and would be followed by mine closure and reclamation.

The EIS describes and analyzes the proposed Project's direct, indirect, and cumulative impacts on all affected resources. In addition to the Proposed Action, the following alternatives are also analyzed in the document: Alternative 1, which is an alternate method to manage and store potentially acid generating material; Alternative 2 which was developed to address and manage pit lake development and water quality; and the No Action Alternative.

A Notice of Availability (NOA) of the Draft EIS for the proposed POA11 Project was published in the Federal Register on October 18, 2019 (FR Doc No: 2019-55979). Two open house public meetings were held during the comment period. The BLM received seven letters with public comments during the 45-day comment period. Six of the letters contained 18 individual substantive comments which included concerns on potential impacts to grazing allotments, storage and management of potentially acid-generating waste rock, mine closure, groundwater quality, pit lake quality, springs, and potential impacts to community wells for the town of Lovelock, Nevada. These comments were considered and addressed in Appendix F (Draft Environmental Impact Statement Public Comments and BLM Responses) of the Final EIS.

Comments on the Draft EIS received from the public and internal BLM review were considered and incorporated, as appropriate, into the Final EIS. Public comments resulted in the addition of clarifying text or corrections, but did not significantly change the proposed action.

(Authority: 40 CFR 1501.7)

David Kampwerth,
Field Manager, Humboldt River Field Office.

[FR Doc. 2020-03608 Filed 2-21-20; 8:45 am]

BILLING CODE 4310-HC-P